ENVIRONMENTAL PROTECTION AGENCY

40 CFR Part 721

[EPA-HQ-OPPT-2011-0976; FRL-9922-45]

RIN 2070-AJ91

Toluene Diisocyanates (TDI) and Related Compounds; Significant New Use Rule; Extension of Comment Period

AGENCY: Environmental Protection Agency (EPA).

ACTION: Proposed rule; extension of comment period.

SUMMARY: EPA issued a proposed rule in the Federal Register of January 15, 2015, concerning 2,4-toluene diisocyanate, 2,6-toluene diisocyanate, toluene diisocyanate unspecified isomers (these three chemical substances are hereafter referred to as toluene diisocyanates or TDI) and related compounds. This document extends the comment period for 45 days, from March 16, 2015, to April 30, 2015. The comment period is being extended because EPA received comments asserting that there may be significant implications for the supply chain and it is critical that interested stakeholders have sufficient time to respond to the proposed rulemaking.

DATES: The comment period for the proposed rule published on January 15, 2015 (80 FR 2068), is extended. Comments, identified by docket identification (ID) number EPA-HQ-OPPT-2011-0976, must be received on or before April 30, 2015.

ADDRESSES: Follow the detailed instructions provided under ADDRESSES in the Federal Register document of January 15, 2015 (80 FR 2068) (FRL-9915-62).

FOR FURTHER INFORMATION CONTACT: For technical information contact: Katherine Sleasman, Chemical Control Division (7405M), Office of Pollution Prevention and Toxics, Environmental Protection Agency, 1200 Pennsylvania Ave. NW., Washington, DC 20460-0001; telephone number: (202) 564-7716; email address: sleasman.katherine@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of January 15, 2015. In that document, EPA proposed the significant new use is any use in a consumer product, with a proposed exception for use of certain chemical substances in coatings, elastomers, adhesives, binders, and sealants that results in less than or equal to 0.1 percent by weight of TDI in a consumer product. In addition, EPA also proposed that the general SNUR exemption for persons who import or process these chemical substances as part of an article would not apply. EPA is hereby extending the comment period, which was set to end on March 16, 2015, to April 30, 2015.

To submit comments, or access the docket, please follow the detailed instructions provided under ADDRESSES in the Federal Register document of January 15, 2015. If you have questions, consult the technical person listed under FOR FURTHER INFORMATION CONTACT.

List of Subjects in 40 CFR Part 721

Environmental protection, Chemicals, Hazardous substances, Reporting and recordkeeping requirements.

Dated: February 4, 2015.
Wendy C. Hamnett,
Director, Office of Pollution Prevention and Toxics.

[FR Doc. 2015-03301 Filed 2-20-15; 8:45 am]

BILLING CODE 6560-50-P